FEDERAL TRADE COMMISSION

Granting of Request for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

Trans No. | Acquiring | Acquired | Entities
TRANSACTIONS GRANTED EARLY TERMINATION—03/31/2008
20080956 | Allion Healthcare, Inc | Raymond A. Mirra, Jr | Biomed America, Inc.
20080963 | Nikos Hecht | Movie Gallery, Inc | Movie Gallery, Inc.
20080965 | SXC Health Solutiions Corp | New Mountain Partners LP | National Medical Health CardSystems, Inc.
20080966 | BMC Software, Inc | BladeLogic, Inc | BladeLogic, Inc.
TRANSACTIONS GRANTED EARLY TERMINATION—04/01/2008
20080920 | Welsh, Carson, Anderson & Stowe IX, L.P | Franck Gougeon | AGA Medical Holdings, Inc.
20080957 | JP Morgan Chase & Co | The Bear Stearns Companies Inc | The Bear Stearns Companies Inc.
TRANSACTIONS GRANTED EARLY TERMINATION—04/02/2008
20080896 | Parker Hannifin Corporation | HTR Holding Corp | HTR Holding Corp.
TRANSACTIONS GRANTED EARLY TERMINATION—04/04/2008
20080868 | TerreStar Corporation | CCIV Wireless I, LLC | CCIV Wireless I, LLC.
20080882 | Complete Production Services, Inc | Frac Source, Inc | Frac Source Services, Inc.
20080967 | Elliott Associates, L.P | Packeteer, Inc | Packeteer, Inc.
20080968 | Deseret Management Corporation | Radio One, Inc | Radio One, Inc., Radio One Licenses, LLC.
20080971 | Ares Partners Management Company LLC | Ares Capital Corporation | Ares Capital Corporation.
20080972 | Mountain America Federal Credit Union | Salt Lake Credit Union | Salt Lake Credit Union.
20080980 | Alternative Asset Management Acquisition Corp. | Halcyon Partners LP | Halcyon Management Group LLC.
20080981 | Palisades Safety and Insurance Association | National Atlantic Holdings Corporation | National Atlantic Holdings Corporation.
TRANSACTIONS GRANTED EARLY TERMINATION—04/07/2008
20071012 | ABRY Broadcast Partners III, L.P | R. Steven Hicks | DMX Holdings, Inc.
TRANSACTIONS GRANTED EARLY TERMINATION—04/08/2008
20080948 | Union Street Acquisition Corp | CGW Southeast Partners IV, L.P | Archway Marketing Services, Inc.
20080949 | Smiths Group plc | Fiberod Industries, LLC | Fiberod Industries, LLC.
20080951 | The Royal Bank of Scotland Group plc | RFS Holdings B.V | RFS Holdings B.V.
20080964 | Mindray Medical International Limited | Datascope Corporation | Datascope Corporation.
20080979 | Vicat, S.A | William Douglas Walker | Walker Concrete Company, Inc. Walker Construction Products, Inc.
TRANSACTIONS GRANTED EARLY TERMINATION—04/10/2008
20080921 | Tom L. Ward | SandRidge Energy, Inc | SandRidge Energy, Inc.
20080970 | WellPoint, Inc | Trident Capital Fund-V, LP | Resolution Health, Inc.
TRANSACTIONS GRANTED EARLY TERMINATION—04/11/2008
20080952 | Schneider Electric SA | George O. McDaniel III | ECP Tech Services, Inc.
20080985 | Centene Corporation | Celtic Capital | Celtic Group, Inc.
20080993 | Walgreen Co | I-trax, Inc | I-trax, Inc.
20080994 | Aurora Equity Partners III LP | NuCO2 Inc | NuCO2 Inc.
20080996 | Reyes Holdings, L.L.C | Ron L. Fowler | Mesa Distributing Co., Inc.
20081005 | Cortec Group Fund IV, L.P | E&B Giftware Holdings, LLC | E&B Giftware LLC.
20081005 | Humana Inc | OSF Healthcare System | OSF Health Plans, Inc.
TRANSACTIONS GRANTED EARLY TERMINATION—04/14/2008
20080941 | Welsh, Carson, Anderson & Stowe X, L.P | Local Insight Regatta Holdings, Inc | Local Insight Regatta Holdings, Inc.
20080942 | Local Insight Regatta Holdings, Inc | Welsh, Carson, Anderson & Stowe X, L.P | Local Insight Media, L.P.
20080943 | Welsh, Carson, Anderson & Stowe IX, L.P | Superholdco | Superholdco.
20080944 | Welsh, Carson, Anderson & Stowe VIII, L.P | Superholdco | Superholdco.
20080960 | C. R. Bard, Inc | Specialized Healthcare Products International, Inc | Specialized Healthcare Products International, Inc.
TRANSACTIONS GRANTED EARLY TERMINATION—04/15/2008
20081009 | Accretive II, LP | AlphaStaff Group, Inc | AlphaStaff Group, Inc.
TRANSACTIONS GRANTED EARLY TERMINATION—04/16/2008
20080990 | Baker Brothers Life Sciences, L.P | Genomic Health Inc | Genomic Health Inc.
20081015 | Wells Fargo & Company | The Toronto-Dominion Bank | Flatiron Credit Company, Inc.
TRANSACTIONS GRANTED EARLY TERMINATION—04/17/2008
20081014 | O'Reilly Automotive, Inc | CSK Auto Corporation | CSK Auto Corporation.

For Further Information Contact: Sandra M. Peay, Contact Representative, or Renee Hallman, Contact Representative. Federal Trade Commission, Premerger Notification Office, Bureau of Competition, Room H-303, Washington, DC 20580, (202) 326-3100.

By direction of the Commission.
Donald S. Clark,
Secretary.

[FR Doc. E8-9754 Filed 5-5-08; 8:45 am]

BILLING CODE 6750-01-M